POSTAL REGULATORY COMMISSION

39 CFR Part 3050

[Docket No. RM2016-11; Order No. 3489]

Periodic Reporting

AGENCY: Postal Regulatory Commission.

ACTION: Notice of proposed rulemaking.

SUMMARY: The Commission is noticing a recent filing requesting that the Commission initiate an informal rulemaking proceeding to consider changes to analytical principles relating to periodic reporting (Proposal Three). This notice informs the public of the filing, invites public comment, and takes other administrative steps.

DATES: Comments are due: October 11, 2016.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Proposal Three

III. Notice and Comment

IV. Ordering Paragraphs

I. Introduction

On August 22, 2016, the Postal Service filed a petition pursuant to 39 CFR 3050.11 requesting that the Commission initiate an informal rulemaking proceeding to consider changes in analytical principles used to prepare the Postal Service's periodic reports.¹ The Petition identifies the proposed changes filed in this docket as Proposal Three.

¹ Petition of the United States Postal Service for the Initiation of a Proceeding to Consider Proposed Changes in Analytical Principles (Proposal Three), August 22, 2016 (Petition).

II. Proposal Three

Proposal Three relates to the design and operation of the In-Office Cost System (IOCS). The proposal concerns changes in the IOCS city carrier sampling methodology and the development of city carrier costs. The Postal Service states that the proposal utilizes census data from the Time and Attendance Collection System (TACS) and the Delivery Operations Information System (DOIS) to develop a new cluster sampling approach. Petition, Proposal Three at 1. This new sampling approach permits data collectors to take on-site readings in the mornings when city carriers conduct the majority of their in-office work. Id. The Postal Service states that the availability of TACS census data provides the opportunity to significantly reshape the sampling design. Id. at 2. The Postal Service states that the primary objective of this proposal is to replace the current method of obtaining data via telephone readings with on-site readings. Id. at 15. In support of its Petition, the Postal Service has attached a public library reference, USPS-RM2016-11/1, and a non-public library reference, USPS-RM2016-11/NP1.²

² Notice of Filing of USPS-RM2916-11/1, USPS-RM2016-11/NP1, and Application for Nonpublic Treatment, August 22, 2016.

III. Notice and Comment

The Commission establishes Docket No. RM2016-11 for consideration of matters raised by the Petition. More information on the Petition may be accessed via the Commission's Web site at http://www.prc.gov. Interested persons may submit comments on the Petition and Proposal Three no later than October 11, 2016. Pursuant to 39 U.S.C. 505, Lyudmila Y. Bzhilyanskaya is designated as an officer of the Commission (Public Representative) to represent the interests of the general public in this proceeding.

IV. Ordering Paragraphs

It is ordered:

1. The Commission establishes Docket No. RM2016-11 for consideration of the matters raised by the Petition of the United States Postal Service for the Initiation of a Proceeding to Consider Proposed Changes in Analytical Principles (Proposal Three), filed August 22, 2016.

2. Comments by interested persons in this proceeding are due no later than October 11, 2016.

3. Pursuant to 39 U.S.C. 505, the Commission appoints Lyudmila Y. Bzhilyanskaya to serve as an officer of the Commission (Public Representative) to represent the interests of the general public in this docket.

4. The Secretary shall arrange for publication of this order in the Federal Register.

By the Commission.
Stacy L. Ruble,
Secretary.

[FR Doc. 2016-20930 Filed 8-30-16; 8:45 am]

BILLING CODE 7710-FW-P